DEPARTMENT OF AGRICULTURE

Forest Service

Evaluating Applications and Issuing Easements for Certain Water Development Facilities on National Forest System Lands That Qualify Under the Act of October 27, 1986

Correction

In notice document 04-14859 beginning on page 39404 in the issue of Wednesday, June 30, 2004, make the following correction:

On the same page, in the first column, under DATES, in the second line, “July 30, 2004” should read, “June 30, 2004.”

[FR Doc. C4-14859 Filed 7-2-04; 8:45 am]

BILLING CODE 1505-01-D